DEPARTMENT OF THE INTERIOR

Bureau of Land Management

[OR-038-1220-AL 042H; G 04-0152]

Meeting Notice for the National Historic Oregon Trail Interpretive Center (NHOTIC) Advisory Board

AGENCY: Bureau of Land Management (BLM), Vale District, Interior.

SUMMARY: The National Historic Oregon Trail Interpretive Center Advisory Board will hold a meeting to discuss reports from the Standing Committees (Economic Development, Visitation, Education and Community Liaison), a roundtable to allow members to introduce new issues to the board, and other matters as may reasonably come before the Board. The entire meeting is open to the public. For a copy of the information to be distributed to the Board members, please submit a written request to the Vale District Office 10 days prior to the meeting.

DATES: The meeting will be held on Thursday, June 3, 2004, from 8 a.m. to 12 p.m. (Pacific time, p.t.). Public comment is scheduled for 10 a.m. to 10:15 a.m. Pacific time (p.t.).

ADDRESSES: The meeting will be held in the Library at the Best Western Sunridge Inn (541-523-6444), One Sunridge Way in Baker City, OR.

FOR FURTHER INFORMATION CONTACT: Peggy Diegan, Management Assistant/Webmaster, Vale District Office, 100 Oregon Street, Vale, OR 97918, (541) 473-3144, or e-mail Peggy_Diegan@or.blm.gov.

Dated: April 12, 2004.
David R. Henderson,
District Manager.

[FR Doc. 04-8759 Filed 4-16-04; 8:45 am]

BILLING CODE 4310-33-M